SURFACE TRANSPORTATION BOARD

[Docket No. FD 36841]

Sierra Northern Railway—Acquisition and Operation Exemption—in Yolo County, Cal.

Sierra Northern Railway (SNR), a Class III rail carrier, has filed a verified notice of exemption under 49 CFR 1150.41 to acquire and operate approximately 0.58 miles of double track rail line between milepost 4.01 and milepost 4.31 within the Sacramento-Yolo Port District (District) in Yolo County, Cal. (the Line).

SNR states that it currently owns and operates the Line as 49 U.S.C. 10906 excepted track but that it seeks to convert the Line to 49 U.S.C. 10901 main line track to provide common carrier rail service to its transloading customers in the District. According to SNR, the Line connects to a 3.1-mile rail line (sometimes referred to as the Sacramento-Yolo Port Belt Railroad) that is leased by SNR and owned by the District. Upon consummation of the transaction, SNR affirms that it will hold itself out to provide common carrier service over the Line via a tariff.

SNR certifies that the proposed transaction does not involve a provision or agreement that may limit future interchange with a third-party connecting carrier. SNR further certifies that its projected annual revenues as a result of this transaction are not expected to exceed those that would qualify it as a Class III rail carrier and will not exceed $5 million.

The transaction may be consummated on or after May 15, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than May 8, 2025 (at least seven days before the exemption becomes effective).

All pleadings, referring to Docket No. FD 36841, must be filed with the Surface Transportation Board either via e-filing on the Board's website or in writing addressed to 395 E Street SW, Washington, DC 20423-0001. In addition, a copy of each pleading must be served on SNR's representative, Crystal M. Zorbaugh, Mullins Law Group PLLC, 2001 L Street NW, Suite 720, Washington, DC 20036.

Given the prior history of the rail line in the District, see Union Pac. R.R.—Operation Exemption—in Yolo Cnty., Cal., FD 34252 (STB served Dec. 5, 2002); Yolo Shortline R.R.—Lease & Operation Exemption—Port of Sacramento, FD 34114 (STB served Feb 3, 2003), SNR is directed to serve a copy of this notice on the District and Union Pacific Railroad Company and certify to the Board that it has done so by May 5, 2025.

According to SNR, this action is categorically excluded from environmental review under 49 CFR 1105.6(c) and from historic reporting requirements under 49 CFR 1105.8(b).

Board decisions and notices are available at www.stb.gov.

Decided: April 28, 2025.
By the Board, Scott M. Zimmerman, Acting Director, Office of Proceedings.
Jeffrey Herzig,
Clearance Clerk.

[FR Doc. 2025-07595 Filed 4-30-25; 8:45 am]

BILLING CODE 4915-01-P